DEPARTMENT OF LABOR

Office of the Secretary

Bureau of International Labor Affairs; Office of Trade and Labor Affairs; Bahrain—United States Free Trade Agreement; Notice of Determination Regarding Review of Submission #2011-01

AGENCY: Bureau of International Labor Affairs, U.S. Department of Labor.

ACTION: Notice.

SUMMARY: The Office of Trade and Labor Affairs (OTLA) gives notice that on June 10, 2011, Submission #2011-01 was accepted for review pursuant to Article 15.4.2 of Chapter Fifteen (the Labor Chapter) of the Bahrain—United States Free Trade Agreement.

The submission was filed with OTLA on April 21, 2011, by the American Federation of Labor and Congress of Industrial Organizations, with a statement from the General Federation of Bahrain Trade Unions. The submission alleges the Government of Bahrain has violated Article 15.1.1 of the Labor Chapter of the Bahrain—United States Free Trade Agreement by failing to fulfill its obligations and commitments under the International Labour Organization Declaration on Fundamental Principles and Rights at Work and its Follow-up with regard to the rights of association and non-discrimination against trade unionists. These allegations were supported by specific factual descriptions which, if substantiated, could demonstrate that the Government of Bahrain's actions were inconsistent with its commitments under the Labor Chapter.

The objectives of the review of the submission will be to gather information so that OTLA can better understand and publicly report on the U.S. Government's views regarding whether the Government of Bahrain's actions were consistent with the obligations set forth in the Labor Chapter of the Bahrain—United States Free Trade Agreement.

DATES: Effective date: June 10, 2011.

FOR FURTHER INFORMATION CONTACT: Gregory Schoepfle, Director, OTLA, U.S. Department of Labor, 200 Constitution Avenue, NW., Room S-5303, Washington, DC 20210. Telephone: (202) 693-4900 (this is not a toll-free number).

SUPPLEMENTARY INFORMATION: Article 15.4.2 of the Labor Chapter of the Bahrain—United States Free Trade Agreement establishes that each Party's contact point shall provide for the submission, receipt, and consideration of communications from persons of a Party on matters related to provisions of the Labor Chapter and shall review such communications in accordance with domestic procedures. On December 14, 2006, the Department of Labor's OTLA was designated as the office to serve as the contact point for administering the labor provisions in free trade agreements, including the Bahrain—United States Free Trade Agreement. 71 FR 76691 (2006). The same Federal Register notice informed the public of the Procedural Guidelines that OTLA would follow for the receipt and review of public submissions. These Procedural Guidelines are available at http://www.dol.gov/ilab/programs/otla/proceduralguidelines.htm. According to the definitions contained in the Procedural Guidelines (Section B) a “submission,” as used in the guidelines, means “a communication from the public containing specific allegations, accompanied by relevant supporting information, that another Party has failed to meet its commitments or obligations arising under a labor chapter * * *.”

The Procedural Guidelines specify that OTLA shall consider six factors, to the extent that they are relevant, in determining whether to accept a submission for review:

1. Whether the submission raises issues relevant to any matter arising under a labor chapter;

2. Whether a review would further the objectives of a labor chapter;

3. Whether the submission clearly identifies the person filing the submission, is signed and dated, and is sufficiently specific to determine the nature of the request and permit an appropriate review;

4. Whether the statements contained in the submission, if substantiated, would constitute a failure of the other Party to comply with its obligations or commitments under a labor chapter;

5. Whether the statements contained in the submission or available information demonstrate that appropriate relief has been sought under the domestic laws of the other Party, or that the matter or a related matter is pending before an international body; and,

6. Whether the submission is substantially similar to a recent submission and significant, new information has been furnished that would substantially differentiate the submission from the one previously filed.

The submission raises pertinent issues that would further the objectives of the Labor Chapter and that would, if substantiated, constitute a failure of the GOB to comply with its FTA commitments. The submission provides new information and was filed in a correct and complete manner with an allegation that is specific enough to be investigated. The affected trade unionists have attempted to engage in dialogue with the Government of Bahrain regarding the allegations contained in the submission. The OTLA has taken these factors into account and accepted the submission for review.

OTLA's decision to accept the submission for review is not intended to indicate any determination as to the validity or accuracy of the allegations contained in the submission. The objectives of the review of the submission will be to gather information so that OTLA can better understand and publicly report on the U.S. Government's views regarding whether the Government of Bahrain's actions were consistent with the obligations set forth in the Labor Chapter of the Bahrain—United States Free Trade Agreement. The review will be completed and a public report issued within 180 days, unless circumstances, as determined by OTLA, require an extension of time, as set out in the Procedural Guidelines. The public report will include a summary of the review process, as well as findings and recommendations.

Signed at Washington, DC, on June 10, 2011.
Sandra Polaski,
Deputy Undersecretary, International Affairs.

[FR Doc. 2011-14893 Filed 6-15-11; 8:45 am]

BILLING CODE 4510-28-P